DEPARTMENT OF TRANSPORTATION

Federal Aviation Administration

Notice of Intent of Waiver With Respect to Land; Bolton Field Airport, Columbus, Ohio

AGENCY: Federal Aviation Administration (FAA), DOT.

ACTION: Notice.

SUMMARY: The FAA is considering a proposal to change approximately 62.365 acres of airport land from aeronautical use to non-aeronautical use and to authorize the sale of airport property located at Bolton Field Airport, Columbus, Ohio. The aforementioned land is not needed for aeronautical use.

The property is located north of the airfield and currently consists of vacant land. The land is located along the north side of Alkire Road, east of Lone Eagle Street and west of the Runway Protection Zone for Runway 22. The anticipated future industrial development.

DATES: Comments must be received on or before April 23, 2025.

ADDRESSES: All requisite and supporting documentation will be made available for review by appointment at the FAA Detroit Airports District Office, Jordan Bowen, Program Manager, 11677 South Wayne Road, Suite 107, Romulus, MI, 48174, Telephone: (734) 229-2905/Fax: (734) 229-2950 and the Columbus Regional Airport Authority, Mark Kelby, Airport Planner, 4600 International Gateway, Columbus, OH 43219, (614) 239-5014.

Written comments on the Sponsor's request may be submitted using any of the following methods:

• Federal eRulemaking Portal: Go to http://www.regulations.gov, and follow the instructions for sending your comments electronically.

• Mail: Jordan Bowen, Program Manager, Federal Aviation Administration, Detroit Airports District Office, 11677 South Wayne Road, Suite 107, Romulus, MI 48174.

• Hand Delivery: Deliver to mail address above between 8 a.m. and 5 p.m. Monday through Friday, excluding Federal holidays.

• Fax: (734) 229-2950.

FOR FURTHER INFORMATION CONTACT: Jordan Bowen, Program Manager, Federal Aviation Administration, Detroit Airports District Office, 11677 South Wayne Road, Suite 107, Romulus, MI 48174. Telephone Number: (734) 229-2905/Fax: (734) 229-2950.

SUPPLEMENTARY INFORMATION: In accordance with section 47107(h) of Title 49, United States Code, this notice is required to be published in the Federal Register 30 days before modifying the land-use assurance that requires the property to be used for an aeronautical purpose.

This request to change the land use of federally obligated airport property pertains to parcel 9 identified on the Exhibit “A” Property Map for Bolton Field Airport. Excerpt from Property Map Data Table, these parcels were acquired under a Federal Aviation Administration (FAA) Airport Developmental Aid Program (ADAP) grant, Federal Project # 8-39-0026-01. The land currently consists of vacant land. The proposed future industrial development includes: two bulk warehousing/distribution buildings, with truck docks, consisting of approximately 410,000 sf and 267,000 sf; paved areas for roadway access/circulation, trailer parking and automobile parking; landscaping; extension of utilities to and within the site and stormwater management features. The Columbus Regional Airport Authority will receive fair market value for the sale of this land.

The disposition of proceeds from the sale of the airport property will be in accordance with FAA's Policy and Procedures Concerning the Use of Airport Revenue, published in the Federal Register on February 16, 1999 (64 FR 7696).

This notice announces that the FAA is considering the release of the subject airport property at the Bolton Field Airport, Columbus, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

DESCRIPTION OF 62.365 ACRES SITUATED IN THE STATE OF OHIO, COUNTY OF FRANKLIN, CITY OF COLUMBUS, VIRGINIA MILITARY SURVEY NUMBER 1462, BEING PART OF AN ORIGINAL 110.86 ACRE TRACT OF LAND (TRACT 26) DESCRIBED IN DEED TO COLUMBUS REGIONAL AIRPORT AUTHORITY OF RECORD IN INSTRUMENT NUMBER 200712310221193, ALL REFERENCES TO RECORDS BEING ON FILE IN THE OFFICE OF THE RECORDER, FRANKLIN COUNTY, OHIO, SAID 62.365 ACRE TRACT BEING MORE FULLY DESCRIBED HEREIN;

BEGINNING AT A MAG NAIL SET AT THE SOUTHWEST CORNER OF SAID 110.86 ACRE TRACT, BEING ON THE NORTH LINE OF A 48.672 ACRE TRACT OF LAND DESCRIBED IN DEED TO COLUMBUS REGIONAL AIRPORT AUTHORITY OF RECORD IN INSTRUMENT NUMBER 202204080055361, BEING AT THE SOUTHEAST CORNER OF SOUTHWEST AIRPORT INDUSTRIAL PARK SECTION 5 OF RECORD IN PLAT BOOK 50, PAGE 9, AND BEING ON THE CENTERLINE OF ALKIRE ROAD (COUNTY ROAD 11);

THENCE NORTH 01°09′23″ EAST, PASSING OVER A ¾″ IRON PIN FOUND AT A DISTANCE OF 40.87 FEET, AND PASSING OVER A ¾″ IRON PIN FOUND AT A DISTANCE OF 680.83 FEET, FOR A TOTAL DISTANCE OF 1114.08 FEET, WITH THE WEST LINE OF SAID 110.86 ACRE TRACT, WITH THE EAST LINE OF SAID SOUTHWEST AIRPORT INDUSTRIAL PARK SECTION 5, WITH THE EAST LINE OF A 4.812 ACRE TRACT OF LAND DESCRIBED IN DEED TO THOMAS M. SPEAKMAN, LLC OF RECORD IN INSTRUMENT NUMBER 201805170065928, WITH THE EAST LINE OF AN ORIGINAL 5.556 ACRE TRACT OF LAND DESCRIBED IN DEED TO HEARTLAND EXPRESS, INC. OF IOWA OF RECORD IN INSTRUMENT NUMBER 201709280135790, AND WITH THE EAST LINE OF TRACT NO. THREE (3) 1.605 ACRES, TRACT NO. FOUR (4) 3.000 ACRES, AND TRACT NO. ONE (1) 8.174 ACRES DESCRIBED IN DEED TO HEARTLAND EQUIPMENT, INC. OF RECORD IN INSTRUMENT NUMBER 200301270026433, TO AN IRON PIN SET AT A NORTHWEST CORNER OF SAID 110.86 ACRE TRACT, BEING ON THE EAST LINE OF SAID 8.174 ACRE TRACT, AND BEING AT THE SOUTHWEST CORNER OF LOT 1 OF SOUTHWEST AIRPORT INDUSTRIAL PARK SECTION 2 OF RECORD IN PLAT BOOK 45, PAGE 73 BEING AN 8.676 ACRE TRACT OF LAND DESCRIBED IN DEED TO BLEDSOE PROPERTIES, LLC OF RECORD IN INSTRUMENT NUMBER 200508190169042;

THENCE SOUTH 87°10′58″ EAST, PASSING OVER A ¾′ IRON PIPE FOUND AT A DISTANCE OF 843.38 FEET, FOR A TOTAL DISTANCE OF 1294.17 FEET, WITH A NORTH LINE OF SAID 110.86 ACRE TRACT, WITH THE SOUTH LINE OF SAID LOT 1, WITH THE SOUTH LINE OF SAID 8.676 ACRE TRACT, WITH THE SOUTH LINE OF A 2.436 ACRE TRACT OF LAND DESCRIBED IN DEED TO CITY OF COLUMBUS, OHIO OF RECORD IN INSTRUMENT NUMBER 200811280171606, AND WITH THE SOUTH LINE OF A 9.664 ACRE TRACT OF LAND DESCRIBED IN DEED TO CROWN ENTERPRISES, INC. OF RECORD IN INSTRUMENT NUMBER 201610190143015, TO A FENCE POST FOUND AT THE COMMON CORNER OF SAID 110.86 ACRE TRACT AND SAID 9.664 ACRE TRACT;

THENCE NORTH 01°06′31″ EAST, A DISTANCE OF 735.83 FEET, WITH A WEST LINE OF SAID 110.86 ACRE TRACT, WITH THE EAST LINE OF SAID LOT 1, AND WITH THE EAST LINE OF SAID 9.664 ACRE TRACT, TO A ¾′ IRON PIPE FOUND (S-5669) AT THE SOUTHWEST CORNER OF A 13.6672 ACRE TRACT OF LAND DESCRIBED IN DEED TO THE CITY OF COLUMBUS, OHIO OF RECORD IN INSTRUMENT NUMBER 200712310221202;

THENCE SOUTH 88°49′46″ EAST, A DISTANCE OF 775.34 FEET, WITH THE SOUTH LINE OF SAID 13.6672 ACRE TRACT, TO A ⅝″ REBAR FOUND AT THE SOUTHEAST CORNER OF SAID 13.6672 ACRE TRACT;

THENCE NORTH 01°11′25″ EAST, A DISTANCE OF 385.48 FEET, WITH THE EAST LINE OF SAID 13.6672 ACRE TRACT, TO A ¾″ IRON PIPE FOUND (STANTEC) AT A SOUTHWEST CORNER OF A 70.362 ACRE TRACT OF LAND DESCRIBED IN DEED TO SID TOOL CO., INC. OF RECORD IN INSTRUMENT NUMBER 201212050186849;

THENCE WITH THE SOUTH LINE OF SAID 70.362 ACRE TRACT, THE FOLLOWING TWO (2) COURSES:

1. SOUTH 66°07′29″ EAST, A DISTANCE OF 447.58 FEET, TO A ¾″ IRON PIPE FOUND (STANTEC);

2. SOUTH 39°43′56″ EAST, A DISTANCE OF 102.52 FEET, TO AN IRON PIN SET ON THE EAST LINE OF SAID 110.86 ACRE TRACT, AND BEING ON THE WEST LINE OF SAID 70.362 ACRE TRACT;

THENCE SOUTH 00°24′17″ WEST, A DISTANCE OF 687.44 FEET, WITH THE EAST LINE OF SAID 110.86 ACRE TRACT, AND WITH THE WEST LINE OF SAID 70.362 ACRE TRACT, TO A ¾″ IRON PIPE FOUND (STANTEC) AT THE SOUTHWEST CORNER OF SAID 70.362 ACRE TRACT;

THENCE THROUGH SAID 110.86 ACRE TRACT THE FOLLOWING TWO (2) COURSES:

1. NORTH 57°52′49″ WEST, A DISTANCE OF 547.47 FEET, TO AN IRON PIN SET;

2. SOUTH 23°51′45″ WEST, PASSING OVER AN IRON PIN SET AT 1684.67 FEET, FOR A TOTAL DISTANCE OF 1716.81 FEET, TO A MAG NAIL SET ON THE SOUTH LINE OF SAID 110.86 ACRE TRACT, BEING ON THE NORTH LINE OF (TRACTS 22, 23, 24, 25 & 30) DESCRIBED IN DEED TO COLUMBUS REGIONAL AIRPORT AUTHORITY OF RECORD IN INSTRUMENT NUMBER 200712310221193, AND BEING ON THE CENTERLINE OF SAID ALKIRE ROAD;

THENCE NORTH 87°09′02″ WEST, A DISTANCE OF 1426.03 FEET, WITH THE SOUTH LINE OF SAID 110.86 ACRE TRACT, THE NORTH LINE OF SAID (TRACTS 22, 23, 24, 25 & 30), WITH THE NORTH LINE OF A 1.5411 ACRE TRACT OF LAND DESCRIBED IN DEED TO THE CITY OF COLUMBUS, OHIO OF RECORD IN INSTRUMENT NUMBER 200712310221201, WITH THE NORTH LINE OF SAID 48.672 ACRE TRACT, AND WITH THE CENTERLINE OF SAID ALKIRE ROAD, TO THE TRUE POINT OF BEGINNING, CONTAINING 62.365 ACRES, SUBJECT TO ALL EASEMENTS AND DOCUMENTS OF RECORD.

ALL IRON PINS SET ARE ⅝-INCH SOLID REBAR 30 INCHES IN LENGTH WITH A YELLOW PLASTIC CAP BEARING THE INITIALS “CEC INC”.

THE BEARINGS SHOWN ON THIS SURVEY ARE BASED ON THE BEARING OF NORTH 87°09′02″ WEST AS DETERMINED FOR THE CENTERLINE OF ALKIRE ROAD BASED ON FIELD OBSERVATIONS PERFORMED IN MAY, 2022 AND BASED ON THE OHIO STATE PLANE COORDINATE SYSTEM, SOUTH ZONE, NAD83 (NSRS 2011 ADJUSTMENT). SAID BEARING WAS ESTABLISHED BY STATIC AND RTK GPS OBSERVATIONS.

Issued in Romulus, Michigan on March 18, 2025.
Katherine S. Delaney,
Assistant Manager, Detroit Airports District Office, FAA, Great Lakes Region.

[FR Doc. 2025-04919 Filed 3-21-25; 8:45 am]

BILLING CODE 4910-XX-P